DEPARTMENT OF LABOR

Comment Request for Information Collection for Enhanced Transitional Jobs Demonstration, New Collection

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data to support the Enhanced Transitional Jobs Demonstration project (ETJD).

A copy of the proposed information collection request can be obtained by contacting the office listed below in the addressee section of this notice.

DATES: Written comments must be submitted to the office listed in the addressee's section below on or before August 1, 2011.

ADDRESSES: Submit written comments to the Employment and Training Administration, 200 Constitution Avenue, NW., Suite N-4511, Washington, DC 20210, Attention: Jenn Smith, Telephone number: (202) 693-3597 (this is not a toll-free number). Fax: (202) 693-3113. E-mail: smith.jenn@dol.gov.

SUPPLEMENTARY INFORMATION:

I. Background

In applying for the Enhanced Transitional Jobs Demonstration grants, grantees agree to submit participant data and quarterly aggregate reports for individuals who receive services through ETJD programs and their partnerships with One-Stop Career Centers, local workforce investment boards, employment providers, the criminal justice system, and child support enforcement agencies, among others. The reports include aggregate data on demographic characteristics, types of services received, placements, outcomes, and follow-up status. Specifically, they summarize data on participants who received subsidized employment and training, placement services, child support assistance and family reunification services, mentoring, and other services essential to successful unsubsidized employment of ex-offender and non-custodial parent participants through ETJD programs.

This requests an approval for a new information collection to meet the reporting and recordkeeping requirements of the Enhanced Transitional Jobs Demonstration through an ETA-provided, Web-based Management Information System (MIS). In addition to reporting participant information and performance-related outcomes, ETJD grantees will be part of an extensive random assignment evaluation to test the effectiveness of a transitional jobs “bump-up” model that provides an enhanced approach to the traditional transitional jobs model, in order to demonstrate the effectiveness of transitional jobs in serving specific hard-to-employ populations.

Five outcome measures are used to measure success in the ETJD grants: Entered employment rate, employment retention rate, average six-month post-program earnings, recidivism rate, and rate of child support order modifications. Several of these conform to the common performance measures implemented across Federal job training programs as of July 1, 2005. By standardizing the reporting and performance requirements of different programs, the common measures give ETA the ability to compare across programs the core goals of the workforce system—how many people entered jobs; how many stayed employed; and how many successfully completed an educational program. Although the common measures are an integral part of ETA's performance accountability system, these measures provide only part of the information necessary to effectively oversee the workforce investment system. ETA also collects data from ETJD grantees on program activities, participants, and outcomes that are necessary for program management and the random assignment evaluation process and for conveying full and accurate information on the performance of ETJD programs to policymakers and stakeholders.

This information collection maintains a reporting and record-keeping system for a minimum level of information collection that is necessary to comply with Equal Opportunity requirements, to hold ETJD grantees appropriately accountable for the Federal funds they receive, including common performance measures, and to allow the Department to fulfill its oversight and management responsibilities.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: New collection.

Agency: Employment and Training Administration.

Title: Enhanced Transitional Jobs Demonstration Reporting System.

OMB Number: 1205-0NEW.

Affected Public: Local workforce investment board, non-profit, or faith-based organization grantees.

Total Respondents: 12 grantees.

Frequency: Quarterly.

Estimated Total Burden Hours
Form/activity | Total respondents | Frequency | Total annual response | Average time per response (hours) | Total annual burden hours | Total annual burden cost
Participant Data Collection | 12 | Continual | 3000 | 2.5 | 7,500 | $107,775
Quarterly narrative progress report | 12 | Quarterly | 48 | 10 | 480 | 6,898
Quarterly performance report | 12 | Quarterly | 48 | 20 | 960 | 13,795
Totals | 12 |  | 1,296 | 32.5 | 8,940 | 128,468

Comments submitted in response to this comment request will be summarized in the request for Office of Management and Budget approval of the information collection request and will become a matter of public record.

Dated: May 11, 2011.
Jane Oates,
Assistant Secretary, Employment and Training Administration.

[FR Doc. 2011-13454 Filed 5-31-11; 8:45 am]

BILLING CODE 4510-FT-P